DEPARTMENT OF HOUSING AND URBAN DEVELOPMENT

[Docket No. FR-4800-C-18A]

Notice of Funding Availability (NOFA) for the Public Housing Neighborhood Networks Program From Fiscal Year 2003 Funding

AGENCY: Office of Public and Indian Housing, HUD.

ACTION: Notice of Funding Availability from Fiscal Year 2003 Funds for the Public Housing Neighborhood Networks Program.

SUMMARY: On April 25, 2003, HUD published a notice of funding availability (NOFA) announcing the availability of Fiscal Year (FY) 2003 funds for the Public Housing Neighborhood Networks (NN) program. This notice announces the availability of $947,098 in FY2003 NN funds. These funds were erroneously awarded to ineligible nonprofit organizations. Subsequently, the awards were cancelled.

DATES: Application Due Date: March 21, 2005.

ADDRESSES: Applicants should mail their applications to Dina Lehmann-Kim, Office of Public Housing and Voucher Programs, Department of Housing and Urban Development, 451 Seventh Street, SW., Washington, DC 20410-5000. Applicants should consult the April 25, 2003, NOFA for additional mailing and receipt procedures.

FOR FURTHER INFORMATION CONTACT: Dina Lehmann-Kim at the above address; telephone (202) 708-4932 ext. 3410 (this is not a toll-free number). Individuals with speech or hearing impairments may access this telephone number through TTY by calling the toll-free Federal Information Relay Service at (800) 877-8339.

SUPPLEMENTARY INFORMATION:

I. Background

On April 25, 2003 (68 FR 21509), HUD published a NOFA announcing the availability of $14,902,500 in FY2003 funds for the NN Program. Among the recipients of this funding were four nonprofit organizations. HUD later determined that these nonprofit organizations were ineligible to receive funding under the 2003 NOFA. Under section 9(d)(1)(E) of the United States Housing Act of 1937 (42 U.S.C. 1437g(d)(1)(E)), the provision of Capital Funds for the Neighborhood Networks program is limited to Public Housing Authorities (PHAs). HUD thus cancelled the awards to the ineligible nonprofit organizations.

II. This Notice

This notice announces the availability of $947,098 in FY2003 funds for the Public Housing Neighborhood Networks program. These funds will be awarded under the same criteria published in the SuperNOFA on April 25, 2003 (68 FR 21002). Applicants should refer to the General Section of the SuperNOFA as well as to the Program Section in order to ensure that all application requirements are met. The General Section, Program Section, and required forms of the 2003 SuperNOFA may be downloaded from the following Web site: http://www.hud.gov/library/bookshelf18/supernofa/nofa03/fundsavail.cfm. Applicants also should review the technical correction made to the 2003 NN NOFA. The technical correction also is available from the above Web site.

This announcement also provides the due date for submitting applications for funding available under this notice.

The competition for the funding under this NOFA will be limited to the following four PHAs: (1) The District of Columbia Housing Authority (DCHA), (2) the Housing Authority of the City of Milwaukee (HACM), (3) Memphis Housing Authority (MHA), and (4) the Schenectady Municipal Housing Authority (SMHA). These are the four PHAs whose residents would have been served by the four ineligible nonprofit organizations. Making these PHAs eligible to apply for this funding will help harmonize the error made by HUD and avoid compromising the benefits that otherwise would have been received by the residents.

The amounts to be awarded under this NOFA to the four PHAs are shown in the table below.

Summary Table
Grant program | Total funding | Eligible applicants | Maximum grant amount
Neighborhood Networks | $947,098 | DCHA | DCHA—Up to $299,998
|  | HACM | HACM—Up to $100,000
|  | MHA | Memphis HA—Up to $293,825
|  | SMHA | SMHA—Up to $253,275

Dated: January 3, 2005.
Michael Liu,
Assistant Secretary for Public and Indian Housing.

[FR Doc. E5-168 Filed 1-18-05; 8:45 am]

BILLING CODE 4210-33-P